DEPARTMENT OF TRANSPORTATION

Federal Highway Administration

Environmental Impact Statement: Lafourche, St. Charles, and Jefferson Parishes, LA

AGENCY: Federal Highway Administration (FHWA), DOT.

ACTION: Notice of intent.

SUMMARY: The FHWA is issuing this notice to advise interested agencies and the public that, in accordance with the National Environmental Policy Act (NEPA), an Environmental Impact Statement (EIS) will be prepared for a proposed road project (State Project No. 700-92-0011 and Federal Aid Project No. NH-9201(501)) in Lafourche, St. Charles, and Jefferson Parishes, Louisiana.

FOR FURTHER INFORMATION CONTACT: Mr. William C. Farr, Programs Operations Manager, Federal Highway Administration, 5304 Flanders Drive, Suite A, Baton Rouge, Louisiana 70808, Telephone: (225) 757-7615; Facsimile: (225) 757-7601 or Mr. Vincent Russo, Environmental Engineer Administrator, Louisiana Department of Transportation and Development, P.O. Box 94245, Baton Rouge, Louisiana 70804, Telephone: (225) 242-4502; Facsimile: (225) 242-4500.

SUPPLEMENTARY INFORMATION: The FHWA, in cooperation with the Louisiana Department of Transportation and Development (LDOTD), will prepare an EIS on a proposal to upgrade a portion of U.S. Highway 90 (US 90) to full “Control of Access” highway meeting interstate standards. US 90 would become an extension of Interstate 49 (I-49). The project consists of the proposed I-49 extension from Raceland to the completed portion of the Westbank Expressway. The approximate distance of the project is 43 miles.

Previously, on April 7, 2003, separate Notices of Intent were published for the I-49 South Raceland to David Pond section of I-49 and the section from LA 306 to the Westbank Expressway. These separate environmental documents are in preparation but yet unfinished. Public comments to date raised common concerns with the scope of the cumulative impact inquiry if each section of I-49 is treated as separate based upon logical termini and independent utility. Thus, the two sections of the proposed I-49 are to be considered together to measure cumulative impacts under 40 CFR 1508.7.

The LDOTD, in coordination with the FHWA, will continue to conduct preliminary environmental (both social and natural environment) and engineering constraints studies, the development of concept line and grade alternatives, initial impact evaluation, more detailed study of line and grade alternatives and environmental impact and cumulative impacts. FHWA and LDOTD will develop a DEIS, hold a public hearing, select a preferred alternative, prepare a Final EIS with complete detailed environmental and line and grade studies, and a Record of Decision for I-49 from Raceland to the completed portion of the Westbank Expressway.

Previously, there have been a total of twelve public information meetings among the three parishes to receive public comment throughout the NEPA process, and a public hearing has been conducted in Lafourche and St. Charles Parishes for SIU 1 from Raceland to the Davis Pond. Additionally, town hall, small group informational, and public officials' meetings have been held and will continue to be held. There will be an additional public hearing.

Interested individuals, organizations, and public agencies are invited to attend the public meetings and participate in identifying any important environmental issues related to the proposed alternatives and suggesting alternatives which are more economical or which have less environmental effects while achieving similar transportation objectives.

To ensure that the full range of issues related to this proposed action is addressed, and all significant issues identified, comments and suggestions are invited from all interested parties. Comments or questions concerning this proposed action and the EIS should be directed to the FHWA at the address provided above.

The public will receive notices on location and time of future opportunities for participation at meetings and public hearings through newspaper advertisements and other means. If you wish to be placed on the mailing list to receive further information as the project develops, please contact Mr. William Farr with FHWA or Mr. Vincent Russo with LDOTD at the addressed above.

In accordance with the regulations and guidance by the Council on Environmental Quality (CEQ), as well as 23 CFR part 450 and 23 policies; the EIS will include an evaluation of the social, economic, and environmental impacts of the alternatives. The EIS will comply with the requirements of the Clean Air Act Amendments of 1990 and with Executive Order 12898 on Environmental Justice. The EIS will meet the requirements of the U.S. Environmental Protection Agency's transportation conformity regulations (40 CFR part 93 and 23 CFR 450.322(b)(8)). After publication, the Draft EIS will be available for public agency review and comment.

The Final EIS will consider the public and agency comments received during the public and agency circulation of the Draft EIS and will determine the preferred alternative. Opportunity for additional public comment will be provided throughout all phrases of the project development.

(Catalog of Federal Domestic Assistance Program Number 20.205, Highway Planning and Construction. The regulations implementing Executive Order 12372 regarding intergovernmental consultation on Federal programs and activities apply to this program)

Dated: Issued on February 27, 2006.
Joe A. Bloise,
Acting Division Administrator, FHWA, Baton Rouge, Louisiana.

[FR Doc. 06-1981 Filed 3-2-06; 8:45 am]

BILLING CODE 4910-22-M